DEPARTMENT OF TRANSPORTATION

Federal Aviation Administration

14 CFR Part 91

[Docket No. FAA-2002-12261; Notice No. 02-09]

RIN 2120-AH68

Reduced Vertical Separation Minimum in Domestic United States Airspace; Correction

AGENCY: Federal Aviation Administration (FAA), DOT.

ACTION: Notice of proposed rulemaking; correction.

SUMMARY: This document contains a correction to the notice of proposed rulemaking, published in the Federal Register on May 10, 2002 (67 FR 31920). That document proposed to permit Reduced Vertical Separation Minimum (RVSM) flights in the airspace over the contiguous 48 States of the United States and Alaska and that portion of the Gulf of Mexico where the FAA provides air traffic services. The RVSM program would allow the use of reduced vertical separation between aircraft at certain altitudes.

FOR FURTHER INFORMATION CONTACT: Roy Grimes, (202) 267-3734.

Correction of Publication

In the notice FR Doc. 02-11704, beginning on page 31920 in the Federal Register issue of May 10, 2002, make the following correction:

1. On page 31920, in column 1, in the heading section, beginning on line 6, correct “RIN 2120-AH63” to read “RIN 2120-AH68”.

Issued in Washington, DC on July 25, 2002.
Donald P. Byrne,
Assistant Chief Counsel, Regulations Division.

[FR Doc. 02-19365 Filed 7-30-02; 8:45 am]

BILLING CODE 4910-13-M